DEPARTMENT OF HOUSING AND URBAN DEVELOPMENT

[Docket No. FR-4579-FA-14]

Announcement of Funding Awards for Fiscal Year 2001 for the Housing Choice Voucher Program

AGENCY: Office of Public and Indian Housing, HUD.

ACTION: Announcement of funding awards.

SUMMARY: In accordance with section 102(a)(4)(C) of the Department of Housing and Urban Development Reform Act of 1989, this document notifies the public of funding awards for Fiscal Year (FY) 2001 to housing agencies (HAs) under the section 8 housing choice voucher program. The purpose of this notice is to publish the names, addresses, and the amount of the awards to housing agencies for housing conversion actions, special housing conversion fees, public housing relocations and replacements, litigation, and litigation counseling.

FOR FURTHER INFORMATION CONTACT: Deborah Hernandez, Director, Section 8 Financial Division, Office of Administration, Office of Public and Indian Housing, Room 4232, Department of Housing and Urban Development, 451 Seventh Street, SW., Washington, DC 20410-8000, telephone (202) 708-2934. Hearing- or speech-impaired individuals may call HUD's TDD number (202) 708-4594. (These telephone numbers are not toll-free).

SUPPLEMENTARY INFORMATION: The regulations governing the housing choice voucher program are published at 24 CFR part 982. The regulations for allocating housing assistance budget authority under section 213(d) of the Housing and Community Development Act of 1974 are published at 24 CFR part 791, subpart D.

The purpose of this rental assistance program is to assist eligible families to pay the rent for decent, safe, and sanitary housing. The FY 2001 awardees announced in this notice were provided Section 8 funds on an as needed basis, i.e., not consistent with the provisions of a Notice of Funding Availability (NOFA). Announcements of awards provided consistent with NOFAs for family unification, mainstream housing, designated housing programs, and family self-sufficiency coordinators will be published in a separate Federal Register notice.

Awards published under this notice were provided: (1) To assist families living in HUD-owned properties that are being sold; (2) to assist families affected by the expiration or termination of assistance; (3) to assist families in properties where the owner has prepaid the HUD mortgage; (4) to provide special housing fees to compensate housing agencies for any extraordinary Section 8 administrative costs associated with the previous three categories; (5) to provide relocation and replacement housing in connection with the demolition of public housing; (6) to partially fulfill the Department's obligations in settlement decrees for lawsuits; and (7) to provide counseling and assistance to families so that they may move to areas that have low racial and ethnic concentrations.

A total of $215,558,491 in budget authority for rental vouchers (36,500 units) was awarded to recipients under all of the above-mentioned categories.

In accordance with section 102(a)(4)(C) of the Department of Housing and Urban Development reform Act of 1989 (103 Stat. 1987, 42 U.S.C. 3545), the Department is publishing the names, addresses, and amounts of those awards as shown in Appendix A.

Dated: January 23, 2002.
Michael Liu,
Assistant Secretary for Public and Indian Housing.

Appendix A.—Section 8 Rental Assistance Programs Announcement of Awards for Fiscal Year 2001
Housing agency and address | Units | Award
LITIGATION
DALLAS HSG AUTH, 3939 N. HAMPTON RD, DALLAS, TX 75212 | 500 | $7,656,000
Total for Litigation | 500 | 7,656,000
LITIGATION COUNSELING
BRIDGEPORT HSG AUTH, 150 HIGHLAND AVENUE, BRIDGEPORT, CT 06604 | 0 | 366,000
Total for Litigation Counseling | 0 | 366,000
PROPERTY DISPOSITION RELOCATION FEES
MOBILE HOUSING BOARD, P.O. BOX 1345, MOBILE, AL 36633 | 0 | 15,250
PASADENA HSG AUTH, 100 N. GARFIELD AVE, ROOM 101, PASADENA, CA 91109 | 0 | 1,750
LAMAR HSG AUTH, 206 EAST CEDAR STREET, LAMAR, CO 81052 | 0 | 10,750
WATERBURY HSG AUTH, 2 LAKEWOOD ROAD, WATERBURY, CT 06704 | 0 | 14,000
KANKAKEE COUNTY HSG AUTH, 185 NORTH ST. JOSEPH AVENUE, KANKAKEE, IL 60901 | 0 | 30,750
CITY OF LOUISVILLE HA, 617 WEST JEFFERSON STREET, LOUISVILLE, KY 40202 | 0 | 15,500
BOWLING GREEN HSG AUTH, 1017 COLLEGE STREET, P.O. BOX 430, BOWLING GREEN, KY 42102 | 0 | 8,750
NEW IBERIA (CITY OF), 457 E MAIN STREET COURTHOUSE, RM 406, NEW IBERIA, LA 70560 | 0 | 31,250
MINNEAPOLIS PUB HSG AUTH, 1001 WASHINGTON AVE NORTH, MINNEAPOLIS, MN 55401 | 0 | 6,250
MISS REGIONAL HSG AUTH VIII, P.O. BOX 2347, GULFPORT, MS 39505 | 0 | 19,500
COUNTY OF CLARK HSG AUTH, 5390 EAST FLAMINGO ROAD, LAS VEGAS, NV 89122 | 0 | 6,500
NEW YORK CITY HSG AUTH, 250 BROADWAY, NEW YORK, NY 10007 | 0 | 16,250
DAYTON METRO HSG AUTH, 400 WAYNE AVE, P.O. BOX 8750, DAYTON, OH 45401 | 0 | 14,750
HSG AUTH OF CITY OF PITTSBURG, 200 ROSS STREET, PITTSBURGH, PA 15219 | 0 | 25,500
HARRISBURG HSG AUTH, 351 CHESTNUT STREET, P.O. BOX 3461, HARRISBURG, PA 17105 | 0 | 61,500
DALLAS HSG AUTH, 3939 N. HAMPTON RD, DALLAS, TX 75212 | 0 | 28,000
ARLINGTON HSG AUTH, 501 W. SANFORD, SUITE 20, ARLINGTON, TX 76011 | 0 | 12,500
OCONTO COUNTY HSG AUTH, 1201 MAIN STREET, OCONTO, WI 54153 | 0 | 2,750
WISCONSIN HSG & ECON DEV, P.O. BOX 1728, MADISON, WI 53701 | 0 | 2,250
Total for Property Disposition Relocation Fees | 0 | 361,000
PRESERVATION/PREPAYMENT FEES
AK HSG FINANCE CORP, P.O. BOX 101020, ANCHORAGE, AK 99510 | 0 | 11,000
HSG AUTH OF JEFFERSON COUNTY, 3700 INDUSTRIAL PARKWAY, BIRMINGHAM, AL 35217 | 0 | 41,500
CITY OF PHOENIX, NGBHD IMPROV, 251 W. WASHINGTON ST, 4TH FL, PHOENIX, AZ | 0 | 1,500
TUCSON HSG MANAGEMENT DIV, 1501 N. ORACLE ROAD, STE 115, P.O. BOX 27210, TUCSON, AZ 85726 | 0 | 1,000
SAN FRANCISCO HSG AUTH, 440 TURK STREET, SAN FRANCISCO, CA 94102 | 0 | 2,500
LOS ANGELES COUNTY HSG AUTH, 2 CORAL CIRCLE, MONTEREY PARK, CA 91755 | 0 | 4,000
CITY OF LOS ANGELES HSG AUTH, 2600 WILSHIRE BLVD., 3RD FLOOR, LOS ANGELES, CA 90057 | 0 | 55,250
SACRAMENTO HSG & REDEV, P.O. BOX 1834, SACRAMENTO, CA 95812 | 0 | 85,500
COUNTY OF SANTA CLARA HSG AUTH, 505 WEST JULIAN ST, SAN JOSE, CA 95110 | 0 | 27,250
ALAMEDA COUNTY HSG AUTH, 22941 ATHERTON STREET, HAYWARD, CA 94541 | 0 | 23,166
LONG BEACH HSG AUTH, 521 E. 4TH STREET, LONG BEACH, CA 90802 | 0 | 15,750
SANTA CRUZ COUNTY HSG AUTH, 2160-41ST AVE, CAPITOLA, CA 95010 | 0 | 22,500
CITY OF SANTA ROSA, 90 SANTA ROSA AVE, P.O. BOX 1806, SANTA ROSA, CA 95402 | 0 | 7,500
ORANGE COUNTY HSG AUTH, 1770 NORTH BROADWAY, SANTA ANA, CA 92706 | 0 | 10,000
PUEBLO HSG AUTH, 1414 NO. SANTA FE AVENUE, PUEBLO, CO 81003 | 0 | 19,250
NORWICH HSG AUTH, 10 WESTWOOD PARK, NORWICH, CT 06360 | 0 | 17,500
CONN DEPT OF SOCIAL SERVICES, 25 SIGOURNEY STREET, 9TH FLOOR, HARTFORD, CT 06105 | 0 | 31,500
DC HSG AUTH, 1133 NO. CAPITOL STREET NE, WASHINGTON, DC 20002 | 0 | 56,750
BROWARD COUNTY HSG AUTH, 1773 NORTH STATE ROAD 7, LAUDERHILL, FL 33313 | 0 | 4,250
CITY AND COUNTY OF HONOLULU, 715 SOUTH KING ST., SUITE 311, HONOLULU, HI 96813 | 0 | 20,750
IDAHO HSG & FINANCE ASSN, 565 W MYRTLE STREET, P.O. BOX 7899, BOISE, ID 83707 | 0 | 7,500
CHICAGO HSG AUTH, 626 WEST JACKSON BLVD, CHICAGO, IL 60661 | 0 | 67,500
HSG AUTH OF COOK COUNTY, 310 SOUTH MICHIGAN AVENUE, 15TH FL, CHICAGO, IL 60604 | 0 | 1,250
FORT WAYNE HSG AUTH, P.O. BOX 13489, FORT WAYNE, IN 46869 | 0 | 31,750
INDIANA DEPT OF HUMAN SERVICES, P.O. BOX 6116, INDIANAPOLIS, IN 46206 | 0 | 21,000
JOHNSON COUNTY HSG AUTH, 9305 W. 74TH STREET, MERRIAM, KS 66204 | 0 | 24,500
COMMUNITY DEVELOPMENT AGENCY, 201 WEST WALNUT STREET, DANVILLE, KY 40422 | 0 | 11,500
LOWELL HSG AUTH, 350 MOODY STREET, LOWELL, MA 01853 | 0 | 35,250
CAMBRIDGE HSG AUTH, 675 MASSACHUSETTS AVENUE, CAMBRIDGE, MA 02139 | 0 | 37,250
NEW BEDFORD HSG AUTH, P.O. BOX A-2081, NEW BEDFORD, MA 02741 | 0 | 750
WORCESTER HSG AUTH, 40 BELMONT STREET, WORCESTER, MA 01605 | 0 | 3,500
MEDFORD HSG AUTH, 121 RIVERSIDE AVENUE, MEDFORD, MA 02155 | 0 | 71,000
QUINCY HSG AUTH, 80 CLAY STREET, QUINCY, MA 02170 | 0 | 27,000
NORTHAMPTON HSG AUTH, 49 OLD SOUTH STREET, NORTHAMPTON, MA 01060 | 0 | 51,750
WEBSTER HOUSING AUTHORITY, GOLDEN HEIGHTS, WEBSTER, MA 01570 | 0 | 1,750
DARTMOUTH HA, 2 ANDERSON WAY, N. DARTMOUTH, MA 02747 | 0 | 49,250
MONTGOMERY CO HSG AUTH, 10400 DETRICK AVENUE, KENSINGTON, MD 20895 | 0 | 26,000
HSG AUTH OF PRINCE GEORGE'S CO, 9400 PEPPERCORN PLACE, SUITE 200, LARGO, MD 20774 | 0 | 38,000
LANSING HOUSING COMMISSION, 310 NORTH SEYMOUR STREET, LANSING, MI 48933 | 0 | 32,500
MICHIGAN STATE HSG DEV AUTH, P.O. BOX 30044, LANSING, MI 48909 | 0 | 68,750
MICHIGAN STATE HSG. DEV. AUTH, P.O. BOX 30044, LANSING, MI 48909 | 0 | 12,000
ST PAUL PUB HSG AUTH, 480 CEDAR STREET, SUITE 600, ST. PAUL, MN 55101 | 0 | 14,750
DULUTH HRA, 222 EAST 2ND ST, P.O. BOX 16900, DULUTH, MN 55816 | 0 | 10,500
ST. CLOUD HRA, 619 MALL GERMAIN SUITE 212, ST. CLOUD, MN 56301 | 0 | 23,750
OWATONNA HRA, 540 WEST HILLS CIRCLE, OWATONNA, MN 55060 | 0 | 11,000
MISS REGIONAL HSG AUTH VIII, P.O. BOX 2347, GULFPORT, MS 39505 | 0 | 13,750
HSG AUTH OF CITY OF ASHEVILLE, P.O. BOX 1898, ASHEVILLE, NC 28801 | 0 | 3,750
HSG AUTH OF DURHAM, 330 E MAIN STREET P.O. BOX 1726, DURHAM, NC 27702 | 0 | 21,500
HICKORY PUB HSG AUTH, 841 S CENTER STREET, P.O. BOX 2927, HICKORY, NC 28603 | 0 | 4,750
GRAHAM HSG AUTH, 109 E HILL STREET, P.O. BOX 88, GRAHAM, NC 27253 | 0 | 5,250
ISOTHERMAL PLANNING & DEV COMM, 111 W COURT STREET, P.O. BOX 841, RUTHERFORDTON, NC 28139 | 0 | 3,500
NASHUA HSG AUTH, 101 MAJOR DRIVE, NASHUA, NH 03060 | 0 | 22,000
PORTSMOUTH HSG AUTH, 245 MIDDLE STREET, PORTSMOUTH, NH 03801 | 0 | 30,000
NEWARK HSG AUTHORITY, 57 SUSSEX AVENUE, NEWARK, NJ 07103 | 0 | 4,500
NEW YORK STATE HSG FIN AGENCY, 25 BEAVER STREET, RM 674, NEW YORK, NY 10004 | 0 | 1,750
COLUMBUS METRO HSG AUTH, 880 EAST 11TH AVENUE, COLUMBUS, OH 43211 | 0 | 66,250
CUYAHOGA METRO HSG AUTH, 1441 WEST 25TH STREET, CLEVELAND, OH 44113 | 0 | 3,000
CINCINNATI METRO HSG AUTH, 16 WEST CENTRAL PARKWAY, CINCINNATI, OH 45210 | 0 | 250
DAYTON METRO HSG AUTH, 400 WAYNE AVE, POST OFFICE BOX 8750, DAYTON, OH 45401 | 0 | 7,000
ZANESVILLE METRO HSG AUTH, 407 PERSHING ROAD, ZANESVILLE, OH 43701 | 0 | 2,500
PORTAGE METRO HSG AUTH, 2832 STATE ROUTE 59, RAVENNA, OH 44266 | 0 | 5,500
WAYNE METRO HSG AUTH, 200 SOUTH MARKET STREET, WOOSTER, OH 44691 | 0 | 10,250
HAMILTON COUNTY PUB HSG AUTH, 138 EAST COURT STREET ROOM 507, CINCINNATI, OH 45202 | 0 | 20,750
FAIRFIELD METRO HSG AUTH, 1506 AMHERST PLACE, LANCASTER, OH 43130 | 0 | 14,750
HSG AUTH OF CO OF CHESTER, 30 W. BARNARD ST., WEST CHESTER, PA 19382 | 0 | 23,750
BUCKS COUNTY HSG AUTH, 350 SOUTH MAIN STREET, SUITE 205, DOYLESTOWN, PA 18901 | 0 | 149,250
ERIE COUNTY HSG AUTH, 120 S. CENTER, CORRY, PA 16407 | 0 | 48,500
WOONSOCKET HSG AUTH, 679 SOCIAL ST, WOONSOCKET, RI 02895 | 0 | 8,500
HSG AUTH OF GREENVILLE, P.O. BOX 10047, GREENVILLE, SC 29603 | 0 | 44,000
HA OF SOUTH CAROLINA REG NO 1, P.O. BOX 326, LAURENS, SC 29360 | 0 | 1,750
HSG AUTH OF BEAUFORT, P.O. BOX 1104, BEAUFORT, SC 29901 | 0 | 4,500
SIOUX FALLS HSG AUTH, 804 S. MINNESOTA, SIOUX FALLS, SD 57104 | 0 | 750
AUSTIN HSG AUTH, P.O. BOX 6159, AUSTIN, TX 78762 | 0 | 43,750
FORT WORTH HSG AUTH, P.O. BOX 430, 1201 E. 13TH ST., FORT WORTH, TX 76101 | 0 | 36,500
HOUSTON HSG AUTH, 2640 FOUNTAIN VIEW, HOUSTON, TX 77057 | 0 | 42,000
SAN ANTONIO HSG AUTH, 818 S. FLORES STREET, P.O. BOX 1300, SAN ANTONIO, TX 78295 | 0 | 57,750
DALLAS HSG AUTH, 3939 N. HAMPTON RD., DALLAS, TX 75212 | 0 | 50,500
DENTON HSG AUTH, 1225 WILSON STREET, DENTON, TX 76205 | 0 | 21,750
TARRANT COUNTY HSG AUTH, 1200 CIRCLE DR., #100, FORT WORTH, TX 76119 | 0 | 29,750
ARLINGTON HSG AUTH, 501 W. SANFORD, SUITE 20, ALRINGTON, TX 76011 | 0 | 6,500
GARLAND HSG AUTH, P.O. BOX 469002, 210 CARVER STREET, SUITE 201B, GARLAND, TX 75046 | 0 | 53,250
MESQUITE HSG AUTH 1515 N. GALLOWAY, P.O. 850137, MESQUITE, TX 75185 | 0 | 61,041
LANCASTER HSG AUTH, P.O. BOX 310, 525 WEST PLEASANT RUN, LANCASTER, TX 75146 | 0 | 107,250
NORFOLK REDEVELOPMENT & H/A, 201 GRANBY ST, NORFOLK, VA 23510 | 0 | 20,250
VIRGINIA HSG DEV AUTH, 601 SOUTH BELVIDERE STREET, RICHMOND, VA 23220 | 0 | 15,000
HA CITY OF PASCO & FRANKLIN CO, 820 NORTH FIRST AVENUE, PASCO, WA 99301 | 0 | 6,500
HSG AUTH OF CITY OF SPOKANE, WEST 55 MISSION ST, SUITE 104, SPOKANE, WA 99201 | 0 | 7,500
HA OF CITY OF WALLA WALLA, 501 CAYUSE STREET, WALLA WALLA, WA 99362 | 0 | 6,250
Total for Preseveration/Prepayment Fees | 0 | $2,225,707
PRESERVATION/PREPAYMENT
AK HSG FINANCE CORP P.O. BOX 101020, ANCHORAGE, AK 99510 | 60 | 360,720
HSG AUTH OF JEFFERSON COUNTY, 3700 INDUSTRIAL PARKWAY, BIRMINGHAM, AL 35217 | 192 | 787,968
CITY OF PHOENIX NGBHD IMPROVE, 251 W. WASHINGTON ST., 4TH FL, PHOENIX, AZ 85003 | 6 | 34,272
TUCSON HSG MANAGEMENT DIV, 1501 N. ORACLE ROAD, STE 115, P.O. BOX 27210, TUCSON, AZ 85726 | 4 | 21,312
SAN FRANCISCO HSG AUTH, 440 TURK STREET, SAN FRANCISCO, CA 94102 | 10 | 101,040
LOS ANGELES COUNTY HSG AUTH, 2 CORAL CIRCLE, MONTEREY PARK, CA 91755 | 16 | 107,136
CITY OF LOS ANGELES HSG AUTH, 2600 WILSHIRE BLVD., 3RD FLOOR, LOS ANGELES, CA 90057 | 221 | 1,561,680
SACRAMENTO HSG & REDEVELOPMENT, P.O. BOX 1834, SACRAMENTO, CA 95812 | 342 | 1,777,548
COUNTY OF SANTA CLARA HSG AUTH, 505 WEST JULIAN ST, SAN JOSE, CA 95110 | 111 | 1,216,116
ALAMEDA COUNTY HSG AUTH, 22941 ATHERTON STREET, HAYWARD, CA 94541 | 68 | 780,384
LONG BEACH HSG AUTH, 521 E. 4TH STREET, LONG BEACH, CA 90802 | 63 | 405,216
SANTA CRUZ COUNTY HSG AUTH, 2160 41ST AVE, CAPITOLA, CA 95010 | 90 | 913,680
CITY OF SANTA ROSA HSG AUTH, 90 SANTA ROSA AVE. P.O. BOX 1806, SANTA ROSA, CA 95402 | 30 | 216,360
ORANGE COUNTY HSG AUTH, 1170 NORTH BROADWAY, SANTA ANA, CA 92706 | 40 | 282,240
PUEBLO HSG AUTH, 1414 NO. SANTA FE AVENUE, PUEBLO, CO 81003 | 91 | 481,572
NORWHICH HSG AUTH, 10 WESTWOOD PARK, NORWICH, CT 06360 | 110 | 646,800
CONN DEPT OF SOCIAL SERVICES, 25 SIGOURNEY STREET, 9TH FLOOR, HARTFORD, CT 06105 | 73 | 733,626
D.C HSG AUTH, 1133 NORTH CAPITOL STREET NE, WASHINGTON, DC 20002 | 239 | 1,987,524
BROWARD COUNTY HOUSING AUTHORI, 1773 NORTH STATE ROAD 7, LAUDERHILL, FL 33313 | 17 | 112,812
CITY AND COUNTY OF HONOLULU, 715 SOUTH KING ST., SUITE 311, HONOLULU, HI 96813 | 106 | 862,416
IDAHO HSG & FINANCE ASSN, 565 2 MYRTLE STREET, P.O. BOX 7899, BOISE, ID 83707 | 32 | 129,408
CHICAGO HSG AUTH, 626 WEST JACKSON BLVD, CHICAGO, IL 60661 | 322 | 2,442,048
HSG AUTH OF COOK COUNTY, 310 SOUTH MICHIGAN AVENUE, 15TH FL, CHICAGO, IL 60604 | 5 | 36,300
FORT WAYNE HSG AUTH, P.O. BOX 13489, FORT WAYNE, IN 46869 | 130 | 650,520
INDIANA DEPT OF HUMAN SERVICES, P.O. BOX 6116, INDIANAPOLIS, IN 46206 | 106 | 381,996
JOHNSON COUNTY HSG AUTH, 9305 W. 74TH STREET, MERRIAM, KS 66201 | 125 | 636,000
COMMUNITY DEVELOPMENT AGENCY, 201 WEST WALNUT STREET, DANVILLE, KY 40422 | 50 | 162,600
LOWELL, HSG AUTH, 350 MOODY STREET, LOWELL, MA 01853 | 141 | 888,300
CAMBRIDGE HSG AUTH, 675 MASSACHUSETTS AVENUE, CAMBRIDGE, MA 02139 | 149 | 1,582,380
NEW BEDFORD HSG AUTH, P.O. BOX A-2081, NEW BEDFORD, MA 02741 | 3 | 15,516
WORCESTER HSG AUTH, 40 BELMONT STREET, WORCESTER, MA 01605 | 23 | 131,376
QUINCY HSG AUTH, 80 CLAY STREET, QUINCY, MA 02170 | 108 | 846,768
NORTHAMPTON HSG AUTH, 49 OLD SOUTH STREET, NORTHAMPTON, MA 01060 | 207 | 1,363,716
WEBSTER HSG AUTH, GOLDEN HEIGHTS, WEBSTER, MA 01570 | 7 | 42,504
DARTMOUTH HSG AUTH, 2 ANDERSON WAY, N. DARTMOUTH, MA 02747 | 197 | 1,510,596
MONTGOMERY CO HSG AUTH, 10400 DETRICK AVENUE, KENSINGTON, MD 20895 | 104 | 876,096
HSG AUTH OF PRINCE GEORGE'S CO, 9400 PEPPERCORN PLACE SUITE 200, LARGO, MD 20774 | 172 | 1,556,256
LANSING HOUSING COMMISSION, 310 NORTH SEYMOUR STREET, LANSING MI 48933 | 130 | 624,000
MICHIGAN STATE HSG DEV AUTH, P.O. BOX 30044, LANSING, MI 48909 | 423 | 2,141,020
MICHIGAN STATE HSG DEV AUTH, P.O. BOX 30044, LANSING, MI 48909 | 48 | 188,352
ST. CLOUD HRA, 619 MALL GERMAIN SUITE 212, ST. CLOUD, MN 56301 | 100 | 403,776
OWATONNA HRA, 540 WEST HILLS CIRCLE, OWATONNA, MN 55060 | 44 | 155,760
MISS REGIONAL HSG AUTH VIII, P.O. BOX 2347, GULFPORT, MS 39505 | 59 | 259,836
HSG AUTH OF CITY OF ASHEVILLE, P.O. BOX 1898, ASHEVILLE, NC 28801 | 26 | 101,088
HSG AUTH OF DURHAM, 330 E MAIN STREET, P.O. BOX 1726, DURHAM, NC 27702 | 143 | 799,656
HICKORY PUB HSG AUTH, 841 S CENTER STREET, P.O. BOX 2927, HICKORY, NC 28603 | 19 | 74,100
GRAHAM HSG AUTH, 109 E HILL STREET, P.O. BOX 88, GRAHAM, NC 27253 | 21 | 94,500
ISOTHERMAL PLANNING & DEV COMM, 111 W COURT STREET, P.O. BOX 841, RUTHERFORDTON, NC 28139 | 44 | 154,704
PORTSMOUTH HSG AUTH, 245 MIDDLE STREET, PORTSMOUTH, NH 03801 | 120 | 699,840
NEWARK HSG AUTH, 57 SUSSEX AVENUE, NEWARK, NJ 07103 | 31 | 203,856
NEW YORK STATE HSG FIN AGENCY, 25 BEAVER STREET, RM 674, NEW YORK, NY 10004 | 7 | 54,768
COLUMBUS METRO HSG AUTH, 880 EAST 11TH AVENUE, COLUMBUS, OH 43211 | 373 | 1,911,252
CUYAHOGA METRO HSG AUTH, 1441 WEST 25TH STREET, CLEVELAND, OH 44113 | 12 | 65,088
CINCINNATI METRO HSG AUTH, 16 WEST CENTRAL PARKWAY, CINCINNATI, OH 45210 | 1 | 4,644
DAYTON METRO HSG AUTH, 400 WAYNE AVE, POST OFFICE BOX 8750, DAYTON, OH 45401 | 32 | 145,920
ZANESVILLE METRO HSG AUTH, 407 PERSHING ROAD, ZANESVILLE, OH 43701 | 10 | 34,320
PORTAGE METRO HSG AUTH, 2832 STATE ROUTE 59, RAVENNA, OH 44266 | 36 | 111,408
WAYNE METRO HSG AUTH, 200 SOUTH MARKET STREET, WOOSTER, OH 44691 | 50 | 190,200
HAMILTON COUNTY PUBLIC HSG, 138 EAST COURT STREET ROOM 507, CINCINNATI, OH 45202 | 120 | 613,440
FAIRFIELD METRO HSG AUTH, 1506 AMHERST PL., LANCASTER, OH 43130 | 60 | 248,400
HSG AUTH OF COUNTY OF CHESTER, 30 W. BARNARD ST., WEST CHESTER, PA 19382 | 95 | 685,140
BUCKS COUNTY HSG AUTH, 350 SOUTH MAIN STREET, SUITE 205, DOYLESTOWN, PA 18901 | 597 | 3,474,540
ERIE COUNTY HSG AUTH, 120 S. CENTER, CORRY, PA 16407 | 194 | 731,568
WOONSOCKET HSG AUTH, 679 SOCIAL ST., WOONSOCKET, RI 02895 | 37 | 192,696
HSG AUTH OF GREENVILLE, P.O. BOX 10047, GREENVILLE, SC 29603 | 176 | 813,120
HA OF SOUTH CAROLINA REG NO 1, P.O. BOX 326, LAURENS, SC 29360 | 10 | 32,040
HSG AUTH OF BEAUFORT, P.O. BOX 1104, BEAUFORT, SC 29901 | 20 | 84,000
SIOUX FALLS HSG AUTH, 804 S. MINNESOTA, SIOUX FALLS, SD 57104 | 3 | 13,464
AUSTIN HSG AUTH, P.O. BOX 6159, AUSTIN, TX 78762 | 235 | 1,680,720
FORT WORTH HSG AUTH, P.O. BOX 430, 1201 E. 13TH ST., FORT WORTH, TX 76101 | 146 | 753,360
HOUSTON HSG AUTH, 2640 FOUNTAIN VIEW, HOUSTON, TX 77057 | 170 | 992,040
SAN ANTONIO HSG AUTH, 818 S. FLORES STREET, P.O. BOX 1300, SAN ANTONIO, TX 78295 | 268 | 1,551,936
DALLAS HSG AUTH, 3939 N. HAMPTON RD., DALLAS, TX 75212 | 202 | 1,546,512
DENTON HSG AUTH, 1225 WILSON STREET, DENTON, TX 76205 | 87 | 528,864
TARRANT COUNTY HSG AUTH, 1200 CIRCLE DR., #100, FORT WORTH, TX 76119 | 128 | 645,888
ARLINGTON HSG AUTH, 501 W. SANFORD, SUITE 20, ARLINGTON, TX 76011 | 26 | 154,752
GARLAND HSG AUTH, 210 CARVER STREET, SUITE 201B, GARLAND, TX 75046 | 216 | 1,355,616
MESQUITE HSG AUTH, 1515 N. GALLOWAY, P.O. BOX 850137, MESQUITE, TX 75185 | 122 | 1,392,320
LANCASTER HSG AUTH, P.O. BOX 310, 525 WEST PLEASANT RUN, LANCASTER, TX 75146 | 434 | 2,574,720
NORFOLK REDEV & HSG AUTH, 201 GRANBY ST., NORFOLK, VA 23510 | 83 | 364,536
VIRGINIA HSG DEVELOPMENT AUTH, 601 SOUTH BEL VIDERE STREET, RICHMOND, VA 23220 | 60 | 280,800
HA CITY OF PASCO & FRANKLIN CO, 820 NORTH FIRST AVENUE, PASCO, WA 99301 | 26 | 131,040
HSG AUTH OF CITY OF SPOKANE, WEST 55 MISSION ST., SUITE 104, SPOKANE, WA 99201 | 37 | 153,624
HSG AUTH OF WALLA WALLA, 501 CAYUSE STREET, WALLA WALLA, WA 99362 | 28 | 104,160
Total for Preservation/Prepayments | 9,079 | 56,160,186
PROPERTY DISPOSITION RELOCATION
MOBILE HOUSING BOARD, P.O. BOX 1345, MOBILE, AL 36633 | 90 | 399,600
HSG AUTH OF DECATUR, P.O. BOX 878, DECATUR, AL 35602 | 24 | 93,600
HSG AUTH OF EUFAULA, P.O. BOX 36, EUFAULA, AL 36027 | 52 | 133,529
HSG AUTH OF CITY OF LITTLE ROCK, 1000 WOLFE STREET, LITTLE ROCK, AR 72202 | 0 | 171,841
PASADENA HSG AUTH, 100 N. GARFIELD AVE., ROOM 101, PASADENA, CA 91109 | 12 | 79,344
LAMAR HSG AUTH, 206 EAST CEDAR STREET, LAMAR, CO 81052 | 48 | 207,360
WATERBURY HSG AUTH, 2 LAKEWOOD ROAD, WATERBURY, CT 06704 | 80 | 446,400
HSG AUTH OF ATLANTA GA, 739 WEST PEACHTREE STREET NE., ATLANTA, GA 30308 | 208 | 1,520,064
CHICAGO HSG AUTH, 626 WEST JACKSON BLVD, CHICAGO, IL 60661 | 59 | 548,045
KANKAKEE COUNTY HSG AUTH, 185 NORTH ST. JOSEPH AVENUE, KANKAKEE, IL 60901 | 132 | 614,592
TOPEKA HSG AUTH, 2010 SE CALIFORNIA AVE., TOPEKA, KS 66607 | 30 | 134,640
CITY OF LOUISVILLE HSG AUTH, 617 WEST JEFFERSON STREET, LOUISVILLE, KY 40202 | 62 | 238,824
BOWLING GREEN HA, 1017 COLLEGE STREET, P.O. BOX 430, BOWLING GREEN, KY 42102 | 68 | 237,456
KENTUCKY HSG CORPORATION, 1231 LOUISVILLE ROAD, FRANKFORT, KY 40601 | 60 | 236,054
CITY OF NEW IBERIA HSG AUTH, 457 E MAIN STREET COURTHOUSE, RM 406, NEW IBERIA, LA 70560 | 126 | 367,416
MICHIGAN STATE HSG DEV AUTH, P.O. BOX 30044, LANSING, MI 48909 | 216 | 931,728
MINNEAPOLIS PUB HSG AUTH, 1001 WASHINGTON AVE NORTH, MINNEAPOLIS, MN 55401 | 30 | 207,000
WORTHINGTON HRA, 819 TENTH STREET, WORTHINGTON, MN 56187 | 24 | 64,800
HSG AUTH OF KANSAS CITY, 301 EASTARMOUR BLVD., KANSAS CITY, MO 64111 | 240 | 1,165,338
MISS REGIONAL HSG AUTH VIII, P.O. BOX 2347, GULFPORT, MS 39505 | 208 | 913,536
COUNTY OF CLARK HSG AUTH, 5390 EAST FLAMINGO ROAD, LAS VEGAS, NV 89122 | 26 | 156,000
NEW YORK CITY HSG AUTH, 250 BROADWAY, NEW YORK, NY 10007 | 76 | 552,672
DAYTON METRO HSG AUTH, 400 WAYNE AVE, P.O. BOX 8750, DAYTON, OH 45401 | 79 | 360,240
HSG AUTH CITY OF PITTSBURG, 200 ROSS STREET, PITTSBURGH, PA 15219 | 423 | 2,005,020
HARRISBURG HSG AUTH, 351 CHESTNUT STREET, P.O. BOX 3461, HARRISBURG, PA 17105 | 301 | 1,524,264
PUERTO RICO HSG FINANCE CORP, CALL BOX 71361-GPO, SAN JUAN, PR 00936 | 50 | 271,200
HSG AUTH OF AIKEN, P.O. BOX 889, AIKEN, SC 29802 | 88 | 441,408
YANKTON HSG & REDEV COMMISSION, P.O. BOX 176, YANKTON, SD 57078 | 36 | 98,928
CHATTANOOGA HSG AUTH, P.O. BOX 1486, CHATTANOOGA, TN 37402 | 204 | 708,312
DALLAS HSG AUTH, 3939 N. HAMPTON RD, DALLAS, TX 75212 | 112 | 857,472
WACO HSG AUTH, P.O. BOX 978, 1001 WASHINGTON, WACO, TX 76703 | 224 | 916,608
ARLINGTON HSG AUTH, 501 W. SANFORD, SUITE 20, ARLINGTON, TX 76011 | 50 | 298,200
MARINETTE CO HSG AUTH, 926 MAIN STREET, P.O. BOX 438, WAUSAUKEE, WI 54177 | 60 | 109,032
OCONTO COUNTY HSG AUTH, 1201 MAIN STREET, OCONTO, WI 54153 | 20 | 60,720
WISCONSIN HSG & ECON DEV AUTH, P.O. BOX 1728, MADISON, WI 53701 | 20 | 73,680
Total for Property Disposition Relocation | 3,538 | 17,144,923
PUBLIC HOUSING RELOCATION/REPLACEMENT
HSG AUTH OF BIRMINGHAM DIST, 1826 3RD AVE. SOUTH, BIRMINGHAM, AL 35233 | 320 | 934,704
HSG AUTH OF CITY OF LITTLE ROCK, 1000 WOLFE STREET, LITTLE ROCK, AR 72202 | 233 | 974,369
TUCSON HSG MANAGEMENT DIV, 1501 N. ORACLE ROAD, SUITE 115 P.O. BOX 27210, TUCSON, AZ 85726 | 78 | 426,816
SAN FRANCISCO HSG AUTH, 440 TURK STREET, SAN FRANCISCO, CA 94102 | 114 | 1,108,794
DENVER HSG AUTH, 777 GRANT STREET, DENVER, CO 80203 | 25 | 197,400
BRIDGEPORT HSG AUTH, 150 HIGHLAND AVENUE, BRIDGEPORT, CT 06604 | 6 | 36,864
HSG AUTH OF CITY OF NEW HAVEN, 360 ORANGE STREET, NEW HAVEN, CT 06511 | 18 | 132,500
WILMINGTON HSG AUTH, 400 WALNUT STREET, WILMINGTON, DE 19801 | 230 | 1,476,600
HSG AUTH OF SARASOTA, 1300 SIXTH STREET, SARASOTA, FL 34236 | 9 | 52,897
HSG AUTH OF WEST PALM BEACH, 3801 GEORGIA AVE, WEST PALM BEACH, FL 33405 | 20 | 115,440
BRADENTON HSG AUTH, 1300 5TH STREET WEST, BRADENTON, FL 34205 | 80 | 529,828
HSG AUTH OF SAVANNAH, P.O. BOX 1179, SAVANNAH, GA 31402 | 174 | 598,398
NEWNAN HSG AUTH, P.O. BOX 881, NEWNAN, GA 30264 | 68 | 353,872
CHICAGO HSG AUTH, 626 WEST JACKSON BLVD, CHICAGO, IL 60661 | 2,624 | 19,417,600
GARY HSG AUTH, 578 BROADWAY, GARY, IN 46402 | 50 | 280,200
LOUISVILLE HSG AUTH, 420 SOUTH EIGHTH STREET, LOUISVILLE, KY 40203 | 146 | 830,448
LEXINGTON-FAYETTE CO HSG AUTH, 300 NEW CIRCLE ROAD, LEXINGTON, KY 40505 | 154 | 458,211
CAMBRIDGE HSG AUTH, 675 MASSACHUSETTS AVENUE, CAMBRIDGE, MA 02139 | 25 | 265,500
HSG AUTH OF BALTIMORE CITY, 417 EAST FAYETTE STREET, BALTIMORE, MD 21201 | 676 | 2,904,398
MERIDIAN HSG AUTH, N/A P.O. BOX 870, MERIDIAN, MS 39302 | 148 | 617,456
HSG AUTH OF BILOXI, P.O. BOX 447, BILOXI, MS 39533 | 58 | 259,403
MISSOULA HSG AUTH, 1319 E. BROADWAY, MISSOULA, MT 59802 | 35 | 137,864
HSG AUTH OF WINSTON-SALEM, 901 CLEVELAND AVENUE, WINSTON-SALEM, NC 27101 | 206 | 821,802
HSG AUTH OF DURHAM, 330 E MAIN STREET, P.O. BOX 1726, DURHAM, NC 27702 | 80 | 336,559
SALISBURY HSG AUTH, 200 S BOUNDARY STREET, P.O. BOX 159, SALISBURY, NC 28145 | 44 | 291,976
NEWARK HSG AUTH, 57 SUSSEX AVENUE, NEWARK, NJ 07103 | 563 | 4,614,348
CAMDEN HSG AUTH, 1300 ADMIRAL WILSON BLVD, P.O. BOX 1426, CAMDEN, NJ 08101 | 63 | 727,272
ORANGE CITY HSG AUTH, 340 THOMAS BOULEVARD, ORANGE, NJ 07050 | 39 | 281,268
EAST ORANGE HSG AUTH, 160 HALSTED STREET, EAST ORANGE, NJ 07018 | 34 | 248,880
CITY OF LAS VEGAS HSG AUTH, 420 N. 10TH STREET, P.O. BOX 1897, LAS VEGAS, NV 89125 | 184 | 1,349,088
HSG AUTH OF TROY, 1 EDDYS LAND, TROP, NY 12180 | 144 | 552,321
CUYAHOGA METRO HSG AUTH, 1441 WEST 25TH STREET, CLEVELAND, OH 44113 | 139 | 753,936
CINCINNATI METRO HSG AUTH, 16 WEST CENTRAL PARKWAY, CINCINNATI, OH 45210 | 692 | 2,128,221
TULSA HSG AUTH, P.O. BOX 6369, TULSA, OK 74148 | 80 | 175,340
PHILADELPHIA HSG AUTH, 12 SOUTH 23RD STREET, PHILADELPHIA, PA 19103 | 464 | 2,095,294
MERCER COUNTY HSG AUTH, 80 JEFFERSON AVENUE, P.O. BOX 683, SHARON, PA 16146 | 18 | 53,352
DELAWARE COUNTY HSG AUTH, 1855 CONSTITUTION AVENUE, P.O. BOX 100, WOODLYN, PA 19094 | 18 | 95,840
POTTSVILLE HSG AUTH, 410 LAUREL BLVD, POTTSVILLE, PA 17901 | 2 | 9,216
HSG AUTH OF COUNTY OF CHESTER, 30 W. BARNARD ST, WEST CHESTER, PA 19382 | 22 | 149,073
HSG AUTH OF GREENVILLE, P.O. BOX 10047, GREENVILLE, SC 29603 | 279 | 249,696
HSG AUTH OF AIKEN, P.O. BOX 889, AIKEN, SC 29802 | 60 | 223,426
HSG AUTH OF LAKE CITY, P.O. BOX 1017, LAKE CITY, SC 29560 | 42 | 188,856
HSG AUTH OF MEMPHIS, 700 ADAMS AVE, P.O. BOX 3664, MEMPHIS, TN 38103 | 216 | 1,150,848
CHATTANOOGA HSG AUTH, P.O. BOX 1486, CHATTANOOGA, TN 37402 | 203 | 930,552
METROPOLITAN DEVELOPMENT & HSG, 701 SOUTH SIXTH STREET, P.O. BOX 846, NASHVILLE, TN 37202 | 65 | 367,380
VIRGIN ISLANDS HSG AUTH, P.O. BOX 7668, ST. THOMAS, VI 00801 | 8 | 58,560
HSG AUTH OF CITY OF SEATTLE, 120 SIXTH AVENUE NORTH, SEATTLE, WA 98109 | 376 | 2,296,257
HSG AUTH OF CITY OF TACOMA, 902 SOUTH “L” STREET, TACOMA, WA 98405 | 400 | 2,508,587
WHEELING HSG AUTH, P.O. BOX 2089, WHEELING, WV 26003 | 75 | 219,916
Total for Public Housing Relocation/Replacement | 9,807 | 54,987,426
SECTION 8 COUNSELING
DALLAS HSG AUTH, 3939 N. HAMPTON RD, DALLAS, TX 75212 | 0 | 860,000
Total for Section 8 Counseling | 0 | 860,000
TERMINATION/OPT-OUT/PROPERTY DISPOSITION FEES
AK HSG FINANCE CORP, P.O. BOX 101020, ANCHORAGE, AK 99510 | 0 | 6,000
MOBILE HOUSING BOARD, P.O. BOX 1345, MOBILE, AL 36633 | 0 | 7,250
HSG AUTH OF HUNTSVILLE, P.O. BOX 486, HUNTSVILLE, AL 35804 | 0 | 16,250
HA DECATUR, P.O. BOX 878, DECATUR, AL 35602 | 0 | 34,250
HA OZARK, P.O. BOX 566, OZARK, AL 36361 | 0 | 12,000
HA EUFAULA, P.O. BOX 36, EUFAULA, AL 36027 | 0 | 10,250
HA PRICHARD, P.O. BOX 10307, PRICHARD, AL 36610 | 0 | 23,250
HA OF THE CITY OF LITTLE ROCK, 1000 WOLFE STREET, LITTLE ROCK, AR 72202 | 0 | 45,750
TUCSON HOUSING MANAGEMENT DIV, 1501 N. ORACLE ROAD, SUITE 115 P.O. BOX 27210, TUCSON, AZ 85726 | 0 | 23,750
WINSLOW HSG AUTH, 900 W. HENDERSON SQ, WINSLOW, AZ 86047 | 0 | 21,250
TEMPE HSG AUTH, 132 E. 6TH ST, SUITE 201 P.O. BOX 5002, TEMPE, AZ 85280 | 0 | 9,000
LOS ANGELES COUNTY HSG AUTH, 2 CORAL CIRCLE, MONTEREY PARK, CA 91755 | 0 | 21,500
CITY OF LOS ANGELES HSG AUTH, 2600 WILSHIRE BLVD., 3RD FLOOR, LOS ANGELES, CA 90057 | 0 | 24,500
SACRAMENTO HSG & REDEVELOPMENT, P.O. BOX 1834, SACRAMENTO, CA 95812 | 0 | 97,250
CITY OF FRESNO HSG AUTH, 1331 FULTON MALL, FRESNO, CA 93776 | 0 | 20,000
COUNTY OF CONTRA COSTA HSG AUTH, 3133 ESTUDILLO ST, P.O. BOX 2759, MARTINEZ, CA 94553 | 0 | 24,750
COUNTY OF STANISLAUS HSG AUTH, 1701 ROBERTSON ROAD, MODESTO, CA 95351 | 0 | 11,000
COUNTY OF BUTTE HSG AUTH, 580 VALLOMBROSA AVE, CHICO, CA 95926 | 0 | 5,000
YOLO COUNTY HSG AUTH, P.O. BOX 1867, WOODLAND, CA 95776 | 0 | 11,500
COUNTY OF SUTTER HSG AUTH, 448 GARDEN HIGHWAY, P.O. BOX 631, YUBA CITY, CA 95992 | 0 | 6,000
SAN JOSE HSG AUTH, 505 WEST JULIAN STREET, SAN JOSE, CA 95110 | 0 | 19,250
CITY OF FAIRFIELD HSG AUTH, 823-B JEFFERSON STREET, FAIRFIELD, CA 94533 | 0 | 5,750
SANTA CRUZ COUNTY HSG AUTH, 2160-41ST AVE, CAPITOLA, CA 95010 | 0 | 27,500
HSG AUTH OF CITY OF LIVERMORE, 3203 LEAHY WAY, LIVERMORE, CA 94550 | 0 | 11,750
COUNTY OF SONOMA HSG AUTH, 1440 GUERNEVILLE ROAD, SANTA ROSA, CA 95403 | 0 | 15,750
CITY OF SANTA ROSA HSG AUTH, 90 SANTA ROSA AVE, P.O. BOX 1806, SANTA ROSA, CA 95402 | 0 | 11,750
PICO RIVERA HSG AUTH, 6615 S. PASSONS BLVD, PICO RIVERA, CA 90660 | 0 | 1,500
CITY OF VACAVILLE HSG AUTH, 40 ELDERIDGE AVENUE, SUITES 1-5, VACAVILLE, CA 95687 | 0 | 7,000
DENVER HSG AUTH, 777 GRANT STREET, DENVER, CO 80203 | 0 | 10,500
PUEBLO HSG, 1414 NO. SANTA FE AVENUE, PUEBLO, CO 81003 | 0 | 1,500
LAKEWOOD HSG AUTH, 445 S. ALLISON PARKWAY, LAKEWOOD, CO 80226 | 0 | 15,000
GRAND JUNCTION HSG AUTH, 1011 NORTH TENTH STREET, GRAND JUNCTION, CO 81501 | 0 | 9,000
TORRINGTON HSG AUTH, 110 PROSPECT STREET, TORRINGTON, CT 06790 | 0 | 1,750
DC HSG AUTH, 1133 NORTH CAPITOL STREET NE, WASHINGTON, DC 20002 | 0 | 12,000
ORANGE CO SECTION 8, 525 EAST SOUTH STREET, ORLANDO, FL 32801 | 0 | 5,000
HSG AUTH OF SAVANNAH, P.O. BOX 1179, SAVANNAH, GA 31402 | 0 | 4,750
HSG AUTH ATLANTA GA, 739 WEST PEACHTREE STREET NE, ATLANTA, GA 30308 | 0 | 15,750
COLLEGE PARK HSG AUTH, 1908 WEST PRINCETON AVENUE, COLLEGE PARK, GA 30337 | 0 | 16,750
HSG AUTH OF DEKALB COUNTY, P.O. BOX 1627, DECATUR, GA 30031 | 0 | 10,000
HSG AUTH OF FULTON COUNTY, 10 PARK PLACE SE, SUITE 550, ATLANTA, GA 30303 | 0 | 250
DCA, 60 EXECUTIVE PARK SOUTH, NE STE 250, ATLANTA, GA 30329 | 0 | 11,000
CITY AND COUNTY OF HONOLULU, 715 SOUTH KING ST., SUITE 311, HONOLULU, HI 96813 | 0 | 7,000
CITY OF CEDAR RAPIDS HSG AUTH, 1211 SIXTH STREET SW, CEDAR RAPIDS, IA 52401 | 0 | 20,250
MUSCATINE HSG AUTH, CITY HALL, 215 SYCAMORE, MUSCATINE, IA 52761 | 0 | 11,500
GRINNELL LOW RENT HSG AUTH, 927 4TH AVENUE, GRINNELL, IA 50112 | 0 | 13,250
DUBUQUE DEPT OF HUMAN RIGHTS, 1805 CENTRAL AVENUE, DUBUQUE, IA 52001 | 0 | 3,000
CITY OF AMES DEPT. OF PLANNING, 515 CLARK AVENUE, AMES, IA 50010 | 0 | 8,500
OSKALOOSA MUNICIPAL PHA, 220 SOUTH MARKET, OSKALOOSA, IA 52577 | 0 | 10,750
CITY OF MASON HSG AUTH, 10-IST STREET M.W., MASON CITY, IA 50401 | 0 | 11,500
REGIONAL HSG AUTH—VOUCHER XI, 108 WEST 6TH ST P.O. BOX 663, CARROLL, IA 51401 | 0 | 1,250
NORTH IOWA REGIONAL HSG AUTH, 217 2ND STREET SW, MASON CITY, IA 50401 | 0 | 4,250
SOUTHEAST IOWA REGIONAL HSG AU, 214 N. 4TH P.O. BOX 397, BURLINGTON, IA 52601 | 0 | 5,750
UPPER EXPLORERLAND REG HSG AUTH, 134 W. GREENE ST., POSTVILLE, IA 52162 | 0 | 17,000
CENTRAL IOWA REG HSG AUTH, 950 OFFICE PARK ROAD, STE 321, WEST DESMOINES, IA 50265 | 0 | 26,500
MID IOWA REGIONAL HSG AUTH, 1814 CENTRAL AVENUE, FORT DODGE, IA 50501 | 0 | 9,500
SIOUXLAND REGIONAL HSG AUTH, 314 COMMERCE BLDG, SIOUX CITY, IA 51101 | 0 | 11,250
IDAHO HSG & FINANCE ASSN, 565 W MYRTLE STREET P.O. BOX 7899, BOISE, ID 83707 | 0 | 12,000
CHICAGO HSG AUTH, 626 WEST JACKSON BLVD, CHICAGO, IL 60661 | 0 | 137,000
PERORIA HSG AUTH, 100 SOUTH SHERIDAN ROAD, PEORIA, IL 61605 | 0 | 12,000
HSG AUTH OF COOK COUNTY, 310 SOUTH MICHIGAN AVENUE 15TH FLOOR, CHICAGO, IL 60604 | 0 | 13,500
HSG AUTH OF COUNTY OF LAKE, 33928 N ROUTE 45, GRAYSLAKE, IL 60030 | 0 | 5,000
FORT WAYNE HSG AUTH, P.O. BOX 13489, FORT WAYNE, IN 46869 | 0 | 23,250
HSG AUTH OF CITY OF EVANSVILLE, P.O. BOX 3605, 500 COURT STREET, EVANSVILLE, IN 47735 | 0 | 51,000
INDIANAPOLIS HSG AGENCY, 1919 N. MERIDIAN STREET, INDIANAPOLIS, IN 46202 | 0 | 66,250
ELKHART HSG AUTH, 1396 BENHAM AVE, ELKHART, IN 46516 | 0 | 18,500
ELWOOD HSG AUTH, 1602 SOUTH “A” STREET, ELWOOD, IN 46036 | 0 | 12,000
LOGANSPORT HSG AUTH, 417 NORTH STREET SUITE 102, LOGANSPORT, IN 46947 | 0 | 11,500
INDIANA DEPT OF HUMAN SERVICES, P.O. BOX 6116, INDIANAPOLIS, IN 46206 | 0 | 36,000
TOPEKA HSG AUTH, 2010 SE CALIFORNIA AVE, TOPEKA, KS 66607 | 0 | 6,500
DODGE CITY HSG AUTH, 407 EAST BEND, DODGE CITY, KS 67801 | 0 | 5,500
FORD COUNTY HSG AUTH, P.O. BOX 1636, DODGE CITY, KS 67801 | 0 | 5,000
RILEY COUNTY HSG AUTH, 437 HOUSTON, MANHATAN, KS 66502 | 0 | 4,750
JEFFERSON COUNTY HSG AUTH, 801 VINE STREET, LOUISVILLE, KY 40204 | 0 | 1,750
COMMUNITY DEVELOPMENT AGENCY, 201 WEST WALNUT STREET, DANVILLE, KY 40422 | 0 | 1,500
KENTUCKY HSG CORPORATION, 1231 LOUISVILLE ROAD, FRANKFORT, KY 40601 | 0 | 15,250
EAST BATON ROUGE PARISH HA, 4731 NORTH BLVD, BATON ROUGE, LA 70806 | 0 | 9,000
FRANKLIN CITY REG HSG AUTH, P.O. BOX 30 80 CANAL ST, TURNERS FALLS, MA 01376 | 0 | 2,000
HSG AUTH OF BALTIMORE CITY, 417 EAST FAYETTE STREET, BALTIMORE, MD 21201 | 0 | 9,750
MONTGOMERY CO HSG AUTH, 10400 DETRICK AVENUE, KENSINGTON, MD 20895 | 0 | 68,750
HAGERSTOWN HSG AUTH, 35 WEST BALTIMORE STREET, HAGERSTOWN, MD 21740 | 0 | 23,750
ANNE ARUNDEL COUNTY HSG AUTH, 7885 GORDON COURT P.O. BOX 0817, GLEN BURNIE, MD 21060 | 0 | 51,500
WASHINGTON COUNTY HSG AUTH, P.O. BOX 2944, HAGERSTOWN, MD 21741 | 0 | 5,500
BALTIMORE CO. HOUSING OFFICE, ONE INVESTMENT PLACE, SUITE P3, TOWSON, MD 21204 | 0 | 9,000
BATTLE CREEK HSG COMM., 250 CHAMPION STREET, BATTLE CREEK, MI 49017 | 0 | 14,500
LIVONIA HSG COMMISSION, 19300 PURLINGBROOK ROAD, LIVONIA, MI 48152 | 0 | 3,500
LANSING HSG COMMISSION, 310 NORTH SEYMOUR STREET, LANSING, MI 48933 | 0 | 7,000
KENT COUNTY HSG COMMISSION, 741 EAST BELTLINE AVE. NE, GRAND RAPIDS, MI 49525 | 0 | 8,500
MICHIGAN STATE HSG DEV AUTH, P.O. BOX 30044, LANSING, MI 48909 | 0 | 106,000
MICHIGAN STATE HSG DEV AUTH, P.O. BOX 30044, LANSING, MI 48909 | 0 | 11,750
WORTHINGTON HRA, 819 TENTH STREET, WORTHINGTON, MN 56187 | 0 | 4,000
DAKOTA COUNTY CDA, 2496 145TH ST. WEST, ROSEMOUNT, MN 55068 | 0 | 8,250
OLMSTED COUNTY HRA, 2122 CAMPUS DRIVE SE, ROCHESTER, MN 55904 | 0 | 7,750
METROPOLITAN COUNCIL HRA, MEARS PARK CENTRE 230 E. FIFTH STREET, ST. PAUL, MN 55101 | 0 | 3,500
OWATONNA HRA, 540 WEST HILLS CIRCLE, OWATONNA, MN 55060 | 0 | 1,000
HSG AUTH OF KANSAS CITY, 301 EASTARMOUR BLVD, KANSAS CITY, MO 64111 | 0 | 62,500
LEES SUMMIT HSG AUTH, 111 SOUTH GRAND, LEES SUMMIT, MO 64063 | 0 | 4,000
SPRINGFIELD HSG AUTH, 421 WEST MADISON, SPRINGFIELD, MO 65806 | 0 | 20,750
LINCOLN COUNTY PUB HSG AGENCY, 16 NORTH COURT, BOWLING GREEN, MO 63334 | 0 | 3,000
ST. FRANCOIS COUNTY PH AGENCY, P.O. BOX N, FLAT RIVER, MO 63601 | 0 | 8,500
MISS REGIONAL HSG AUTH VIII, P.O. BOX 2347, GULFPORT, MS 39505 | 0 | 9,750
MDOC, POB 200545 836 FRONT STREET, HELENA, MT 59620 | 0 | 2,750
RALEIGH HSG AUTH, P.O. BOX 28007, RALEIGH, NC 27611 | 0 | 11,000
HSG AUTH OF CHARLOTTE, P.O. BOX 36795, 1301 SOUTH BOULEVARD, CHARLOTTE, NC 28236 | 0 | 0
HSG AUGH OF WINSTON-SALEM, 901 CLEVELAND AVENUE, WINSTON-SALEM, NC 27101 | 0 | 750
GASTONIA HSG AUTH, 340 W LONG AVENUE P.O. BOX 2398, GASTONIA, NC 28053 | 0 | 20,250
NORTHWEST PIEDMONT CO OF GOV, 400 W 4TH STREET, SUITE 400, WINSTON-SALEM, NC 27101 | 0 | 2,500
MORTON COUNTY HSG AUTH, P.O. BOX 517, MANDAN, ND 58554 | 0 | 3,500
RAMSEY COUNTY HSG AUTH, BOX 691, DEVILS LAKE, ND 58301 | 0 | 10,000
BURLEIGH COUNTY HSG AUTH, 410 SOUTH 2ND STREET, BISMARCK, ND 58504 | 0 | 23,750
RANSOM COUNTY HSG AUTH, P.O. BOX 299, ASHLEY, ND 58413 | 0 | 3,750
NASHUA HSG AUTH, 101 MAJOR DRIVE, NASHUA, NH 03060 | 0 | 17,000
DOVER HSG AUTH, 62 WHITTIER STREET, DOVER, NH 03820 | 0 | 7,250
ROCHESTER HSG AUTH, WELLSWEEP ACRES, ROCHESTER, NH 03867 | 0 | 7,500
NEW JERSEY DCA, 101 SOUTH BROAD STREET, P.O. BOX 051, TRENTON, NJ 08625 | 0 | 500
CITY OF RENO HSG AUTH, 1525 EAST NINTH ST, RENO, NV 89512 | 0 | 4,500
COUNTY OF CLARK HSG AUTH, 5390 EAST FLAMINGO ROAD, LAS VEGAS, NV 89122 | 0 | 7,250
NEW YORK CITY HSG AUTH, 250 BROADWAY, NEW YORK, NY 10007 | 0 | 94,500
CITY OF NEW YORK DHPD, 100 GOLD STREET ROOM 5N, NEW YORK, NY 10038 | 0 | 92,750
NEW YORK STATE HSG FIN AGENCY, 25 BEAVER STREET, RM 674, NEW YORK, NY 10004 | 0 | 4,750
CUYAHOGA METRO HSG AUTH, 1441 WEST 25TH STREET, CLEVELAND, OH 44113 | 0 | 15,750
CINCINNATI METRO HSG AUTH, 16 WEST CENTRAL PARKWAY, CINCINNATI, OH 45210 | 0 | 246,500
DAYTON METRO HSG AUTH, 400 WAYNE AVE, POST OFFICE BOX 8750, DAYTON, OH 45401 | 0 | 12,250
LUCAS METRO HSG AUTH, P.O. BOX 477 435 NEBRASKA AVENUE, TOLEDO, OH 43602 | 0 | 2,750
ZANESVILLE METRO HSG AUTH, 407 PERSHING ROAD, ZANESVILLE, OH 43701 | 0 | 19,000
LORAIN METRO HSG AUTH, 1600 KANSAS AVENUE, LORAIN, OH 44052 | 0 | 25,250
STARK METRO HSG AUTH, 400 EAST TUSCARAWAS STREET, CANTON, OH 44702 | 0 | 11,750
PORTAGE METRO HSG AUTH, 2832 STATE ROUTE 59, RAVENNA, OH 44266 | 0 | 3,500
HAMILTON COUNTY PUB HSG AUTH, 138 EAST COURT STREET, ROOM 507, CINCINNATI, OH 45202 | 0 | 84,000
KNOX METRO HSG AUTH, 117 EAST HIGH STREET, 3RD FLOOR, MOUNT VERNON, OH 43050 | 0 | 23,750
FAIRFIELD METRO HSG AUTH, 1506 AMHERST PL, LANCASTER, OH 43130 | 0 | 9,750
OKLAHOMA CITY HSG AUTH, 1700 NE FOURTH STREET, OKLAHOMA CITY, OK 73117 | 0 | 31,000
HSG AUTH OF PORTLAND, 135 SW ASH STREET, PORTLAND, OR 97204 | 0 | 9,000
HSG AUTH OF MALHEUR COUNTY, 959 FORTNER ST, ONTARIO, OR 97914 | 0 | 1,250
PHILADELPHIA HSG AUTH, 12 SOUTH 23RD STREET, PHILADELPHIA, PA 19103 | 0 | 31,500
ALLEGHENY COUNTY HSG AUTH, 341-4TH AVENUE, PITTSBURGH, PA 15222 | 0 | 6,750
LEBANON COUNTY HSG AUTH, 303 CHESTNUT STREET, LEBANON, PA 17042 | 0 | 23,250
WOONSOCKET HSG AUTH, 679 SOCIAL ST, WOONSOCKET, RI 02895 | 0 | 58,500
CENTRAL FALLS HSG AUTH, 30 WASHINGTON ST, CENTRAL FALLS, RI 02863 | 0 | 42,250
PUERTO RICO HSG FINANCE CORP, CALL BOX 71361-GPO, SAN JUAN, PR 00936 | 0 | 90,000
HSG AUTH OF AIKEN, P.O. BOX 889, AIKEN, SC 29802 | 0 | 6,500
HSG AUTH OF GREENWOOD, P.O. BOX 973, GREENWOOD, SC 29648 | 0 | 4,500
CHATTANOOGA HSG AUTH, P.O. BOX 1486, CHATTANOOGA, TN 37402 | 0 | 28,500
HSG AUTH OF DICKSON, 333 MARTIN L. KING JR. BLVD., DICKSON, TN 37055 | 0 | 10,250
TENNESSEE HSG DEV AGENCY, 404 J. ROBERTSON PKWY, STE 1114, NASHVILLE-DAVIDSON, TN 37243 | 0 | 5,750
AUSTIN HSG AUTH, P.O. BOX 6159, AUSTIN, TX 78762 | 0 | 69,500
EL PASO HSG AUTH, 5300 E PAISONA, EL PASO, TX 79905 | 0 | 6,750
FORT WORTH HSG AUTH, P.O. BOX 430, 1201 E. 13TH ST., FORTH WORTH, TX 76101 | 0 | 17,000
WACO HSG AUTH, P.O. BOX 978, 1001 WASHINGTON, WACO, TX 76703 | 0 | 56,000
LAREDO HSG AUTH, 2000 SAN FRANCISCO AVENUE, LAREDO, TX 78040 | 0 | 25,500
TEXAS CITY HSG AUTH, 817 SECOND AVENUE NORTH, TEXAS CITY, TX 77590 | 0 | 7,500
PLANO HSG AUTH, 1111 AVENUE H, BLDG. A, PLANO, TX 75074 | 0 | 11,000
ARKANSAS PASS HSG AUTH, 254 N 13TH STREET, ARKANSAS PASS, TX 78336 | 0 | 10,000
ARLINGTON HSG AUTH, 501 W. SANFORD, SUITE 20, ARLINGTON, TX 76011 | 0 | 42,750
GRAND PRAIRIE HSG AUTH, 201 NW. 2ND ST, STE 150, GRAND PRAIRIE, TX 75053 | 0 | 40,750
GARLAND HSG AUTH, 210 CARVER STREET, STE 201B, GARLAND, TX 75046 | 0 | 3,000
MESQUITE HSG AUTH, 1515 N. GALLOWAY, P.O. BOX 850137, MESQUITE, TX 75185 | 0 | 7,500
WICHITA FALLS HAP, P.O. BOX 1431, 1300 SEVENTH ST., WICHITA FALLS, TX 76307 | 0 | 44,750
BRAZOS VALLEY DEV COUNCIL, PO DRAWER 4128, BRYAN, TX 77805 | 0 | 6,000
DAVIS COUNTY HSG AUTH, P.O. BOX 328, FARMINGTON, UT 84025 | 0 | 500
PORTSMOUTH REDEV AND HSG AUTH, P.O. BOX 1098, 339 HIGH STREET, PORTSMOUTH, VA 23705 | 0 | 31,000
FAIRFAX CO REDEV AND HSG AUTH, 3700 PENDER DRIVE, SUITE 300, FAIRFAX, VA 22030 | 0 | 7,250
PETERSBURG REDEV AND HSG AUTH, 128 S. SYCAMORE STREET, PETERSBURG, VA 23804 | 0 | 21,000
MARION REDEV AND HSG AUTH, 237 MILLER AVE, MARION, VA 24354 | 0 | 28,250
CITY OF VIRGINIA BEACH HSG AUTH, MUNICIPAL CENTER, VIRGINIA BEACH, VA 23456 | 0 | 28,500
VIRGINIA HSG DEV AUTH, 601 SOUTH BELVEDERE STREET, RICHMOND, VA 23220 | 0 | 65,500
HSG AUTH OF CITY OF SEATTLE, 120 SIXTH AVENUE NORTH, SEATTLE, WA 98109 | 0 | 15,500
HSG AUTH OF COUNTY OF KING, 600 ANDOVER PARK WEST, TUKWILA, WA 98188 | 0 | 15,250
HSG AUTH OF THURSTON COUNTY, 505 WEST FOURTH AVENUE, OLYMPIA, WA 98501 | 0 | 5,000
PIERCE COUNTY HSG AUTH, 603 S POLK, P.O. BOX 45410, TACOMA, WA 98445 | 0 | 6,250
HSG AUTH OF CITY OF SPOKANE, WEST 55 MISSION ST, SUITE 104, SPOKANE, WA 99201 | 0 | 2,500
HSG AUTH OF CITY OF MILWAUKEE, P.O. BOX 324, MILWAUKEE, WI 53201 | 0 | 77,000
WAUSAU CDA, 550 EAST THOMAS STREET, WAUSAU, WI 54403 | 0 | 14,500
WISCONSIN RAPIDS HSG AUTH, 2521 TENTH STREET SOUTH, WISCONSIN RAPIDS, WI 54494 | 0 | 6,250
DODGE COUNTY HSG AUTH, 419 E CENTER ST, JUNEAU, WI 53039 | 0 | 10,000
PORTAGE COUNTY HSG AUTH, 1100 CENTERPOINT DR, SUITE 201-B, STEVENS POINT, WI 54481 | 0 | 10,500
MARINETTE COUNTY HSG AUTH, 926 MAIN STREET, P.O. BOX 438, WAUSAUKEE, WI 54177 | 0 | 7,750
Total for Termination/Opt-out/Property Disposition Fees | 0 | 3,525,000
TERMINATIONS/OPT-OUTS
MOBILE HOUSING BOARD, P.O. BOX 134, MOBILE, AL 36633 | 30 | 133,560
DOTHAN HSG AUTH, P.O. BOX 1727, DOTHAN, AL 36302 | 0 | 15,695
HSG AUTH OF HUNTSVILLE, P.O. BOX 486, HUNTSVILLE, AL 35804 | 76 | 318,840
HSG AUTH OF DECATUR, P.O. BOX 878, DECATUR, AL 35602 | 136 | 535,296
HSG AUTH OF OZARK, P.O. BOX 566, OZARK, AL 36361 | 50 | 168,600
HSG AUTH OF PRICHARD, P.O. BOX 10307, PRICHARD, AL 36610 | 99 | 458,568
HSG AUTH OF CITY OF LITTLE ROCK, 1000 WOLFE STREET, LITTLE ROCK, AR 72202 | 86 | 985,560
TUCSON HSG MANAGEMENT DIV, 1501 N. ORACLE ROAD, SUITE 115, P.O. BOX 27210, TUCSON, AZ 85726 | 95 | 516,420
TEMPLE HSG AUTH, 132 E. 6TH ST, SUITE 201, P.O. BOX 5002, TEMPE, AZ 85280 | 36 | 206,928
LOS ANGELES COUNTY HSG AUTH, 2 CORAL CIRCLE, MONTEREY PARK, CA 91755 | 86 | 582,552
CITY OF LOS ANGELES HSG AUTH, 2600 WILSHIRE BLVD, 3RD FLOOR, LOS ANGELES, CA 90057 | 99 | 708,024
SACRAMENTO HSG & REDEV AUTH, P.O. BOX 1834, SACRAMENTO, CA 95812 | 125 | 642,288
CITY OF FRESNO HSG AUTH, 1331 FULTON MALL, FRESNO, CA 93776 | 87 | 422,820
SACRAMENTO HSG & REDEV AUTH, P.O. BOX 1834, SACRAMENTO, CA 95812 | 270 | 1,514,004
COUNTY OF CONTRA COSTA HSG AUTH, 3133 ESTUDILLO ST, P.O. BOX 2759, MARTINEZ, CA 94533 | 100 | 832,800
COUNTY OF STANISLAUS HSG AUTH, 1701 ROBERTSON ROAD, MODESTO, CA 95351 | 44 | 209,616
COUNTY OF BUTTE HSG AUTH, 580 VALLOMBROSA AVE, CHICO, CA 95926 | 20 | 78,480
YOLO COUNTY HSG AUTH, P.O. BOX 1867, WOODLAND, CA 95776 | 52 | 267,072
COUNTY OF SUTTER HSG AUTH, 448 GARDEN HIGHWAY, P.O. BOX 631, YUBA CITY, CA 95992 | 24 | 88,128
SAN JOSE HOUSING AUTHORITY, 505 WEST JULIAN STREET, SAN JOSE, CA 95110 | 79 | 857,940
CITY OF FAIRFIELD HSG AUTH, 823-B JEFFERSON STREET, FAIRFIELD, CA 94533 | 26 | 166,296
SANTA CRUZ COUNTY HSG AUTH, 2160-41ST AVE, CAPITOLA, CA 95010 | 110 | 1,036,200
H.A. OF THE CITY OF LIVERMORE, 3203 LEAHY WAY, LIVERMORE, CA 94550 | 125 | 407,772
COUNTY OF SONOMA HSG AUTH, 1440 GUERNEVILLE ROAD, SANTA ROSA, CA 95403 | 63 | 464,940
CITY OF SANTA ROSA HSG AUTH, 90 SANTA ROSA AVE., P.O. BOX 1806, SANTA ROSA, CA 95402 | 47 | 338,964
PICO RIVERA HSG AUTH, 6615 S. PASSONS BLVD, PICO RIVERA, CA 90660 | 6 | 48,672
CITY OF VACAVILLE HSG AUTH, 40 ELDRIDGE AVENUE, SUITES 1-5, VACAVILLE, CA 95687 | 28 | 171,696
DENVER HSG AUTH, 777 GRANT STREET, DENVER, CO 80203 | 42 | 331,632
PUEBLO HSG AUTH, 1414 NO. SANTA FE AVENUE, PUEBLO, CO 81003 | 6 | 31,752
LAKEWOOD HSG AUTH, 445 S. ALLISON PARKWAY, LAKEWOOD, CO 80226 | 60 | 395,280
GRAND JUNCTION HSG AUTH, 1011 NORTH TENTH STREET, GRAND JUNCTION, CO 81501 | 36 | 175,824
TORRINGTON HSG AUTH, 110 PROSPECT STREET, TORRINGTON, CT 06790 | 7 | 35,784
DC HSG AUTH, 1133 NORTH CAPITOL STREET NE, WASHINGTON, DC 20002 | 33 | 274,428
ORANGE CO SECTION 8, 525 EAST SOUTH STREET, ORLANDO, FL 32801 | 20 | 117,600
HSG AUTH OF SAVANNAH, P.O. BOX 1179, SAVANNAH, GA 31402 | 19 | 90,060
COLLEGE PARK HSG AUTH, 1908 WEST PRINCETON AVENUE, COLLEGE PARK, GA 30337 | 68 | 530,400
HSG AUTH OF DEKALB COUNTY, P.O. BOX 1627, DECATUR, GA 30031 | 40 | 264,480
HSG AUTH OF FULTON COUNTY, 10 PARK PLACE SE, SITE 550, ATLANTA, GA 30303 | 6 | 34,128
DCA, 60 EXECUTIVE PARK SOUTH, NE SUITE 250, ATLANTA, GA 30329 | 48 | 225,360
CITY AND COUNTY OF HONOLULU, 715 SOUTH KING ST., SUITE 311, HONOLULU, HI 96813 | 28 | 227,808
MUSCATINE HSG AUTH, CITY HALL, 215 SYCAMORE, MUSCATINE, IA 52761 | 48 | 150,912
GRINNELL LOW RENT HSG AUTH, 927 4TH AVENUE, GRINNELL, IA 50112 | 56 | 158,592
DUBUQUE DEPT OF HUMAN RIGHTS, 1805 CENTRAL AVENUE, DUBUQUE, IA 52001 | 12 | 40,320
CITY OF AMES DEPT. OF PLANNING, 515 CLARK AVENUE, AMES, IA 50010 | 43 | 178,020
OSKALOOSA MUNICIPAL PHA, 220 SOUTH MARKET, OSKALOSSA, IA 52577 | 44 | 117,744
CITY OF MASON HSG AUTH, 10-IST STREET NW., MASON CITY, IA 50401 | 48 | 140,544
REGIONAL HSG AUTH—VOUCHER XI, 108 WEST 6TH ST, P.O. BOX 663, CARROLL, IA 51401 | 20 | 54,960
NORTH IOWA REG HSG AUTH, 217 2ND STREET SW, MASON CITY, IA 50401 | 24 | 73,152
SOUTHEAST IOWA REG HSG AUTH, 214 N. 4TH P.O. BOX 397, BURLINGTON, IA 52601 | 24 | 72,576
UPPER EXPLORERLAND REG HSG AUTH, 134 W. GREENE ST, POSTVILLE, IA 52162 | 73 | 211,968
CENTRAL IOWA REG HSG AUTH, 950 OFFICE PARK ROAD, STE 321, WEST DES MOINES, IA 50265 | 108 | 395,280
MID IOWA REGIONAL HSG AUTH, 1814 CENTRAL AVENUE, FORT DODGE, IA 50501 | 42 | 112,896
SIOUXLAND REGIONAL HISG AUTH, 314 COMMERCE BLDG, SIOUX CITY, IA 51101 | 48 | 123,264
IDAHO HSG & FINANCE ASSN, 565 W MYRTLE STREET, P.O. BOX 7899, BOISE, ID 83707 | 48 | 204,096
CHICAGO HSG AUTH, 626 WEST JACKSON BLVD, CHICAGO, IL 60661 | 496 | 3,767,400
PEORIA HSG AUTH, 100 SOUTH SHERIDAN ROAD, PEORIA, IL 61605 | 48 | 240,192
HSG AUTH OF COOK COUNTY, 310 SOUTH MICHIGAN AVENUE, 15TH FL, CHICAGO, IL 60604 | 54 | 262,440
HSG AUTH OF COUNTY OF LAKE, 33928 N ROUTE 45, GRAYSLAKE, IL 60030 | 20 | 146,640
FORT WAYNE HSG AUTH, P.O. BOX 13489, FORT WAYNE, IN 46869 | 94 | 429,768
HSG AUTH OF CITY OF EVANSVILE, P.O. BOX 3605, 500 COURT STREET, EVANSVILLE, IN 47735 | 204 | 810,288
INDIANAPOLIS HOUSING AGENCY, 1919 N. MERIDIAN STREET, INDIANAPOLIS, IN 46202 | 373 | 1,591,536
ELKHART HSG AUTH, 1396 BENHAM AVE, ELKHART, IN 46516 | 74 | 258,289
ELWOOD HSG AUTH, 1602 SOUTH “A” STREET, ELWOOD, IN 46036 | 50 | 214,200
LOGANSPORT HSG AUTH, 417 NORTH STREET SUITE 102, LOGANSPORT, IN 46947 | 48 | 194,688
INDIANA DEPT OF HUMAN SERVICES, P.O. BOX 6116, INDIANAPOLIS, IN 46206 | 146 | 574,620
TOPEKA HSG AUTH, 2010 SE CALIFORNIA AVE, TOPEKA, KS 66607 | 24 | 107,712
DODGE CITY HSG AUTH, 407 EAST BEND, DODGE CITY, KS 67801 | 22 | 94,824
FORD COUNTY HSG AUTH, P.O. BOX 1636, DODGE CITY, KS 67801 | 20 | 64,080
RILEY COUNTY HSG AUTH, 437 HOUSTON, MANHATTAN, KS 66502 | 24 | 95,904,
JEFFERSON COUNTY HSG AUTH, 801 VINE STREET, LOUISVILLE, KY 40204 | 7 | 30,660
COMMUNITY DEVELOPMENT AGENCY, 201 WEST WALNUT STREET, DANVILLE, KY 40422 | 6 | 19,512
KENTUCKY HSG CORPORATION, 1231 LOUISVILLE ROAD, FRANKFROT, KY 40601 | 12 | 46,224
EAST BATON ROUGE PARISH HA, 4731 NORTH BLVD, BATON ROUGE, LA 70806 | 41 | 207,132
FRANKLIN CTY REG HSG AUTH, P.O. BOX 30 80 CANAL ST, TURNERS FALS, MA 01376 | 8 | 44,544
HSG AUTH OF BALTIMORE CITY, 417 EAST FAYETTE STREET, BALTIMORE, MD 21201 | 61 | 322,896
MONTGOMERY CO HSG AUTH, 10400 DETRICK AVENUE, KENSINGTON, MD 20895 | 279 | 2,556,396
HAGERSTOWN HSG AUTH, 35 WEST BALTIMORE STREET, HAGERSTOWN, MD 21740 | 95 | 381,900
ANNE ARUNDEL COUNTY HSG AUTH, 7885 GORDON COURT P.O. BOX 0817, GLEN BURNIE, MD 21060 | 206 | 1,278,024
WASHINGTON COUNTY HSG AUTH, P.O. BOX 2944, HAGERSTOWN, MD 21741 | 22 | 90,288
BALTIMORE CO. HSG OFFICE, ONE INVESTMENT PLACE SUITE P3, TOWSON, MD 21204 | 37 | 194,472
BATTLE CREEK HSG. COMM., 250 CHAMPION STREET, BATTLE CREEK, MI 49017 | 58 | 193,728
LIVONIA HSG COMMISSION, 19300 PURLINGBROOK ROAD, LIVONIA, MI 48152 | 16 | 105,600
LANSING HSG COMMISION, 310 NORTH SEYMOUR STREET, LANSING, MI 48933 | 28 | 134,400
ANN ARBOR HSG COMMISSION, 727 MILLER AVENUE, ANN ARBOR, MI 48103 | 0 | 0
KENT COUNTY HSG COMMISSION, 741 EAST BELTLINE AVE. NE, GRAND RAPIDS, MI 49525 | 34 | 199,920
MICHIGAN STATE HSG DEV AUTH, P.O. BOX 30044, LANSING, MI 48909 | 269 | 1,352,316
MICHIGAN STATE HSG DEV AUTH, P.O. BOX 30044, LANSING, MI 48909 | 41 | 163,344
DAKOTA COUNTY CDA, 2496 145TH ST. WEST, ROSEMOUNT, MN 55068 | 33 | 183,744
OLMSTED COUNTY HRA, 2122 CAMPUS DRIVE SE, ROCHESTER, MN 55904 | 32 | 138,240
OWATONNA HRA, 540 WEST HILLS CIRCLE, OWATONNA, MN 55060 | 4 | 14,160
HSG AUTH OF KANSAS CITY, 301 EASTARMOUR BLVD, KANSAS CITY, MN 64111 | 145 | 713,580
LEES SUMMIT HSG AUTH, 111 SOUTH GRAND, LEES SUMMIT, MO 64063 | 17 | 85,272
SPRINGFIELD HSG AUTH, 421 WEST MADISON, SPRINGFILED, MO 65806 | 2 | 6,072
LINCOLN COUNTY PUB HSG AGENCY, 16 NORTH COURT, BOWLING GREEN, MO 63334 | 12 | 51,120
ST. FRANCOIS COUNTY PH AGENCY, P.O. BOX N, FLAT RIVER, MO 63601 | 50 | 168,600
MISS REGIONAL HSG AUTH VIII, P.O. BOX 2347, GULFPORT, MS 39505 | 40 | 149,280
MDOC, POB 200545, 836 FRONT STREET, HELENA, MT 59620 | 12 | 47,520
RALEIGH HSG AUTH, P.O. BOX 28007, RALEIGH, NC 27611 | 50 | 291,600
HSG AUTH OF WINSTON-SALEM, 901 CLEVELAND AVENUE, WINSTON-SALEM, NC 27101 | 10 | 52,200
NORTHWEST PIEDMONT CO OF GOV, 400 W 4TH STREET, SUITE 400, WINSTON-SALEM, NC 27101 | 10 | 40,200
MORTON COUNTY HSG AUTH, P.O. BOX 517, MANDAN, ND 58554 | 24 | 84,672
BURLEIGH COUNTY HSG AUTH, 410 SOUTH 2ND STREET, BISMARCK, ND 58504 | 95 | 367,080
RANSOM COUNTY HSG AUTH, P.O. BOX 299, ASHLEY, ND 58413 | 15 | 28,440
NASHUA HSG AUTH, 101 MAJOR DRIVE, NASHUA, NH 03060 | 69 | 454,572
DOVER HSG AUTH, 62 WHITTIER STREET, DOVER, NH 03820 | 32 | 185,844
ROCHESTER HSG AUTH, WELLSWEEP ACRES, ROCHESTER, NH 03867 | 30 | 191,160
NEW JERSEY DCA, 101 SOUTH BROAD STREET, P.O. BOX 051, TRENTON, NJ 08625 | 4 | 30,912
CITY OF RENO HSG AUTH, 1525 EAST NINTH ST, RENO, NV 89512 | 18 | 96,336
COUNTY OF CLARK HSG AUTH, 5390 EAST FLAMINGO ROAD, LAS VEGAS, NV 89122 | 29 | 172,260
NEW YORK CITY HSG AUTH, 250 BROADWAY, NEW YORK, NY 10007 | 378 | 2,748,816
CITY OF NEW YORK DHPD, 100 GOLD STREET ROOM 5N, NEW YORK, NY 10038 | 371 | 2,372,916
NEW YORK STATE HSG FIN AGENCY, 25 BEAVER STREET, RM 674, NEW YORK, NY 10004 | 19 | 138,168
CUYAHOGA METRO HSG AUTH, 1441 WEST 25TH STREET, CLEVELAND, OH 44113 | 80 | 430,044
CINCINNATI METRO HSG AUTH, 16 WEST CENTRAL PARKWAY, CINCINNATI, OH 45210 | 1,089 | 5,057,316
DAYTON METROL HSG AUTH, 400 WAYNE AVE POST OFFICE BOX 8750, DAYTON, OH 45401 | 107 | 487,920
LUCAS METRO HSG AUTH, P.O. BOX 477 435 NEBRASKA AVENUE, TOLEDO, OH 43602 | 12 | 56,160
ZANESVILLE METRO HSG AUTH, 407 PERSHING ROAD, ZANESVILLE, OH 43701 | 76 | 260,832
LORAIN METRO HSG AUTH, 1600 KANSAS AVENUE, LORAIN, OH 44052 | 105 | 524,160
STARK METRO HSG AUTH, 400 EAST TUSCARAWAS STREET, CANTON, OH 44702 | 56 | 209,664
PORTAGE METRO HSG AUTH, 2832 STATE ROUTE 59, RAVENNA, OH 44266 | 14 | 70,896
HAMILTON COUNTY PUB HSG AUTH, 138 EAST COURT STREET, ROOM 507, CINCINNATI, OH 45202 | 361 | 1,847,268
KNOX METROPO HSG AUTH, 117 EAST HIGH STREET, 3RD FL, MOUNT VERNON, OH 43050 | 102 | 340,272
FAIRFIELD METRO HSG AUTH, 1506 AMHERST PL, LANCASTER, OH 43130 | 40 | 165,600
OKLAHOMA CITY HSG AUTH, 1700 N E FOURTH STREET, OKLAHOMA CITY, OK 73117 | 124 | 559,488
HSG AUTH OF PORTLAND, 135 SW ASH STREET, PORTLAND, OR 97204 | 39 | 224,640
HSG AUTH OF MALHEUR COUNTY, 959 FORTNER ST, ONTARIO, OR 97914 | 8 | 35,040
PHILADELPHIA HSG AUTH, 12 SOUTH 23RD STREET, PHILADELPHIA, PA 19103 | 126 | 901,152
ALLEGHENY COUNTY HSG AUTH, 341-4TH AVENUE, PITTSBURGH, PA 15222 | 32 | 138,240
LEBANON COUNTY HSG AUTH, 303 CHESTNUT STREET, LEBANON, PA 17042 | 93 | 369,396
WOONSOCKET HSG AUTH, 679 SOCIAL ST, WOONSOCKET, RI 02895 | 251 | 1,298,136
CENTRAL FALLS HSG AUTH, 30 WASHINGTON ST, CENTRAL FALLS, RI 02863 | 175 | 917,700
PUERTO RICO HSG FINANCE CO, CALL BOX 71361-GPO, SAN JUAN, PR 00936 | 382 | 1,829,604
HSG AUTH OF AIKEN, P.O. BOX 889, AIKEN, SC 29802 | 26 | 125,112
HSG AUTH OF GREENWOOD, P.O. BOX 973, GREENWOOD, SC 29648 | 18 | 55,296
HSG AUTH OF DICKSON, 333 MARTIN L. KING JR. BLVD., DICKSON, TN 37055 | 60 | 263,520
TENNESSEE HSG DEV AGENCY, 404 J. ROBERTSON PKWY, STE 1114, NASHVILLE-DAVIDSON, TN 37243 | 24 | 98,784
AUSTIN HSG AUTH, P.O. BOX 6159, AUSTIN, TX 78762 | 299 | 2,103,396
EL PASO HSG AUTH, 5300 E PAISONA, EL PASO, TX 79905 | 27 | 136,080
FORT WORTH HSG AUTH, P.O. BOX 430, 1201 E 13TH ST., FORT WORTH, TX 76101 | 68 | 419,861
LAREDO HSG AUTH, 2000 SAN FRANCISCO AVENUE, LAREDO, TX 78040 | 104 | 495,456
TEXAS CITY HSG AUTH, 817 SECOND AVENUE NORTH, TEXAS CITY, TX 77590 | 31 | 183,768
PLANO HSG AUTH, 1111 AVENUE H, BLDG. A, PLANO, TX 75074 | 44 | 287,232
ARANSAS PASS HSG AUTH, 254 N 13TH STREET, ARANSAS PASS, TX 78336 | 40 | 157,920
ARLINGTON HSG AUTH, 501 W. SANFORD, SUITE 20, ARLINGTON, TX 76011 | 204 | 1,216,656
GRAND PRAIRIE HSG AUTH, 201 NW, 2ND ST, STE 150, GRAND PRAIRIE, TX 75053 | 170 | 981,240
GARLAND HSG AUTH, 210 CARVER STREET, STE 201B, GARLAND, TX 75046 | 40 | 291,840
MESQUITE HSG AUTH, 1515 N. GALLOWAY, P.O. BOX 850137, MESQUITE, TX 75185 | 32 | 182,016
WICHITA FALLS HAP, P.O. BOX 1431 SEVENTH ST., WICHITA FALLS, TX 76307 | 179 | 685,212
BRAZOS VALLEY DEV COUNCIL, P.O. DRAWER 4128, BRYAN, TX 77805 | 50 | 230,400
DAVIS COUNTY HSG AUTH, P.O. BOX 328, FARMINGTON, UT 84025 | 10 | 51,720
PORTSMOUTH REDEV AND HSG AUTH, P.O. BOX 1098, 339 HIGH STREET, PORTSMOUTH, VA 23705 | 160 | 768,000
FAIRFAX CO REDEV AND HSG AUTH, 3700 PENDER DRIVE, SUITE 300, FAIRFAX, VA 22030 | 30 | 240,120
PETERSBURG REDEV AND HSG AUTH, 128 S. SYCAMORE STREET, PETERSBURG, VA 23804 | 125 | 730,500
MARION REDEV AND HSG AUTH, 237 MILLER AVE, MARION, VA 24354 | 113 | 492,228
CITY OF VIRGINIA BEACH HSG AUTH, MUNICIPAL CENTER, VIRGINIA BEACH, VA 23456 | 152 | 720,480
VIRGINIA HSG DEVELOPMENT AUTH, 601 SOUTH BELVIDERE STREET, RICHMOND, VA 23220 | 264 | 1,235,520
HSG AUTH OF CITY OF SEATTLE, 120 SIXTH AVENUE NORTH, SEATTLE, WA 98109 | 62 | 304,200
HSG AUTH OF COUNTY OF KING, 600 ANDOVER PARK WEST, TUKWILA, WA 98188 | 62 | 461,472
HSG AUTH OF THURSTON COUNTY, 505 WEST FOURTH AVENUE, OLYMPIA, WA 98501 | 21 | 105,588
PIERCE COUNTY HSG AUTH, 603 S POLK, P.O. BOX 45410, TACOMA, WA 98445 | 25 | 132,300
HSG AUTH OF CITY OF SPOKANE, WEST 55 MISSION ST, SUITE 104, SPOKANE, WA 99201 | 10 | 41,520
HSG AUTH OF CITY OF MILWAUKEE, P.O. BOX 324, MILWAUKEE, WI 53201 | 236 | 1,008,048
WAUSAU CDA, 550 EAST THOMAS STREET, WAUSAU, WI 54403 | 58 | 153,816
WISCONSIN RAPIDS HSG AUTH, 2521 TENTH STREET SOUTH, WISCONSIN RAPIDS, WI 54494 | 10 | 27,480
DODGE COUNTY HSG AUTH, 419 E CENTER ST, JUNEAU, WI 53039 | 40 | 104,160
PORTAGE COUNTY HSG AUTH, 1100 CENTERPOINT DR, SUITE 201-B, STEVENS POINT, WI 54481 | 42 | 124,488
Total for Terminations/Opt-outs | 13,576 | 72,272,249
Grand total | 36,500 | 215,558,491

[FR Doc. 02-2179 Filed 1-29-02; 8:45 am]

BILLING CODE 4210-33-M